ENVIRONMENTAL PROTECTION AGENCY

[EPA-HQ-OPP-2009-0901; FRL-8836-9]

Product Cancellation Order for Certain Pesticide Registrations

AGENCY: Environmental Protection Agency (EPA).

ACTION: Notice.

SUMMARY: This notice announces EPA's order for the cancellations, voluntarily requested by the registrants and accepted by the Agency, of the products listed in Table 1, pursuant to section 6(f)(1) of the Federal Insecticide, Fungicide, and Rodenticide Act (FIFRA), as amended. This cancellation order follows a December 30, 2009 Federal Register Notice of Receipt of Requests from the registrants listed in Table 2 to voluntarily cancel these product registrations. In the December 30, 2009 notice, EPA indicated that it would issue an order implementing the cancellations unless the Agency received substantive comments within the 180-day comment period that would merit its further review of these requests or unless the registrants withdrew their requests. The Agency did not receive any comments on the notice. The registrants did not withdraw their requests. Accordingly, EPA hereby issues in this notice a cancellation order granting the requested cancellations. Any distribution, sale, or use of the products subject to this cancellation order is permitted only in accordance with the terms of this order, including any existing stocks provisions.

DATES: The cancellations are effective July 28, 2010.

FOR FURTHER INFORMATION CONTACT: Barbara Briscoe, Pesticide Re-evaluation Division (7508P), Office of Pesticide Programs, Environmental Protection Agency, 1200 Pennsylvania Ave., NW., Washington, DC 20460-0001; telephone number: (703) 308-8177; fax number: (703) 308-8090; e-mail address: briscoe.barbara@epa.gov.

SUPPLEMENTARY INFORMATION:

I. General Information

A. Does this Action Apply to Me?

This action is directed to the public in general and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2009-0901. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the cancellation, as requested by registrants, of 17 products registered under FIFRA section 3. These registrations are listed in sequence by registration number in Table 1.

Table 1. —Product Cancellations
EPA Registration Number | Product Name | Chemical Name
002382-00054 | Otomite-Pesticidal | Piperonyl butoxide, Pyrethrins
002382-00092 | Pet-Guard Gel Forte | Piperonyl butoxide, Butoxypolypropylene glycol
002382-00126 | Duocide L.A. | Permethrin, MGK 264, Pyrethrins
002382-00158 | Knockout Flea and Tick Carpet Spray #1 | Permethrin, Piperonyl butoxide, Pyriproxyfen
042697-00034 | Safer Brand Entire Insect Killer Concentrate | Pyrethrins, Potassium laurate
067517-00004 | Insecticide Mist | Pyrethrins, Piperonyl butoxide
067517-00012 | Dairy Spray | Pyrethrins, Piperonyl butoxide
067517-00041 | Rose and Flower Spray | Pyrethrins, Piperonyl butoxide
067517-00042 | Tomato and Vegetable Spray | Pyrethrins, Piperonyl butoxide
067517-00043 | Fly-A-Rest AQ | Pyrethrins, Piperonyl butoxide
067517-00045 | Hard Hitter Aerosol | Permethrin
067517-00049 | Dog and Cat Spray Or Dip | Pyrethrins, Piperonyl butoxide
067517-00051 | Flea And Tick Spray | Pyrethrins, Permethrin
067517-00056 | Flea And Insect Carpet Dust | Pyrethrins, Piperonyl butoxide
067517-00057 | Cat And Dog Pyrethrin Powder | Pyrethrins, Piperonyl butoxide
067517-00061 | Permethrin 10% W.B. Multi-Purpose Concentrate | Permethrin
067517-00080 | Permethrin 10% Oil Base Concentrate | Permethrin

Table 2 includes the names and addresses of record for all registrants of the products in Table 1, in sequence by EPA company number. This number corresponds to the first part of the EPA registration numbers of the products listed in Table 1.

Table 2. —Registrants of Cancelled Products
EPA Company Number | Company Name and Address
002382 | Virbac AH, Inc. 1445 Ross Avenue, Suite 3800 Dallas, TX 75202
042697 | Safer, Inc. 69 North Locust St., P.O. Box 327 Lititz, PA 17543
067517 | PM Resources, Inc. P.O. Box 162059 Fort Worth, TX 76161

III. Summary of Public Comments Received and Agency Response to Comments

During the public comment period provided, EPA received no comments in response to the December 30, 2009 Federal Register notice announcing the Agency's receipt of the requests for voluntary cancellations of products listed in Table 1.

IV. Cancellation Order

Pursuant to FIFRA section 6(f), EPA hereby approves the requested cancellations of the registrations identified in Table 1. Accordingly, the Agency hereby orders that the product registrations identified in Table 1 are canceled. The effective date of the cancellations that are subject of this notice is July 28, 2010. Any distribution, sale, or use of existing stocks of the products identified in Table 1 in a manner inconsistent with any of the provisions for disposition of existing stocks set forth in Unit VI. will be a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of December 30, 2009 (74 FR 69090) (FRL-8804-6). The comment period closed on June 28, 2010.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 until July 28, 2011, which is 1 year after the publication of the Cancellation Order in the Federal Register. Thereafter, the registrants are prohibited from selling or distributing products listed in Table 1, except for export in accordance with FIFRA section 17, or proper disposal. Persons other than the registrants may sell, distribute, or use existing stocks of products listed in Table 1 until existing stocks are exhausted, provided that such sale, distribution, or use is consistent with the terms of the previously approved labeling on, or that accompanied, the canceled products.

List of Subjects

Environmental protection, Pesticides and pests.

Dated: July 21, 2010.
Richard P. Keigwin, Jr.,
Director, Pesticide Re-evaluation Division, Office of Pesticide Programs.

[FR Doc. 2010-18375 Filed 7-27-10; 8:45 am]

BILLING CODE 6560-50-S